DEPARTMENT OF TRANSPORTATION

Surface Transportation Board

[STB Docket No. AB-511 (Sub-No. 2X)]

Central Railroad Company of Indianapolis—Discontinuance Exemption—in Grant County, IN

On October 10, 2001, the Central Railroad Company of Indianapolis (CERA) filed with the Surface Transportation Board (Board) a petition under 49 U.S.C. 10502 for exemption from the provisions of 49 U.S.C. 10903 to discontinue service over a 5.22-mile line of railroad, known as the Marion Branch, between milepost TS-152.22, near Marion, and milepost TS-157.44, near West Marion Belt, in Grant County, IN.¹ The discontinuance includes 0.3 miles of trackage rights over Pennsylvania Lines LLC (PL) between PL milepost MP-78.3 and milepost MP-78.6.² The line traverses U.S. Postal Service Zip Codes 46952 and 46953. It includes the station of Marion at milepost TS-152.22.

¹ The line is owned by Norfolk Southern Railway Company (NSR) and was operated under lease by CERA. NSR will replace CERA and provide service on the line.

² The PL mileposts equate to NSR mileposts TS-153.1 and TS-153.4, respectively.

The line does not contain federally granted rights-of-way. Any documentation in CERA's possession will be made available promptly to those requesting it.

The interest of railroad employees will be protected by the conditions set forth in Oregon Short Line R. Co.—Abandonment—Goshen, 360 I.C.C. 91 (1979).

By issuance of this notice, the Board is instituting an exemption proceeding pursuant to 49 U.S.C. 10502(b). A final decision will be issued by January 28, 2002.

Any offer of financial assistance to subsidize continued rail service under 49 CFR 1152.27(b)(2) will be due no later than 10 days after service of a decision granting the petition for exemption. Each offer must be accompanied by a $1,000 filing fee. See 49 CFR 1002.2(f)(25).

This proceeding is exempt from environmental reporting requirements under 49 CFR 1105.6(c) and from historic reporting requirements under section 1105.8(b).

All filings in response to this notice must refer to STB Docket No. AB-511 (Sub-No. 2X) and must be sent to: (1) Surface Transportation Board, Office of the Secretary, Case Control Unit, 1925 K Street, NW., Washington, DC 20423-0001; and (2) Louis E. Gitomer, Ball Janik LLP, 1455 F Street, NW., Suite 225, Washington, DC 20005. Replies are due November 19, 2001.

Persons seeking further information concerning discontinuance procedures may contact the Board's Office of Public Services at (202) 565-1592 or refer to the full abandonment or discontinuance regulations at 49 CFR part 1152. Questions concerning environmental issues may be directed to the Board's Section of Environmental Analysis (SEA) at (202) 565-1552. [TDD for the hearing impaired is available at 1-800-877-8339.]

Board decisions and notices are available on our web site at www.stb.dot.gov.

Decided: October 24, 2001.
By the Board, David M. Konschnik, Director, Office of Proceedings.
Vernon A. Williams,
Secretary.

[FR Doc. 01-27254 Filed 10-29-01; 8:45 am]

BILLING CODE 4915-00-P